FEDERAL ELECTION COMMISSION

Sunshine Act Meeting

AGENCY: Federal Election Commission.

DATE AND TIME: Tuesday, July 11, 2017 at 10:00 a.m. and its Continuation at the Conclusion of the Open Meeting on July 13, 2017.

PLACE: 999 E Street NW., Washington, DC.

STATUS: This Meeting was Closed to the Public.

Federal Register Notice of Previous Announcement—82 FR 31327

CHANGE IN THE MEETING: This meeting was continued on Tuesday, August 15, 2017.

* * * * *

PERSON TO CONTACT FOR INFORMATION: Judith Ingram, Press Officer, Telephone: (202) 694-1220.

Laura E. Sinram,
Acting Secretary of the Commission.

[FR Doc. 2017-17711 Filed 8-17-17; 11:15 am]

BILLING CODE 6715-01-P